SMALL BUSINESS ADMINISTRATION

Data Collection Available for Public Comments

ACTION: 60 Day notice and request for comments.

SUMMARY: In accordance with the Paperwork Reduction Act of 1995, this notice announces the Small Business Administration's intentions to request approval on a new and/or currently approved information collection.

DATES: Submit comments on or before February 18, 2014.

ADDRESSES: Send all comments regarding whether this information collection is necessary for the proper performance of the function of the agency, whether the burden estimates are accurate, and if there are ways to minimize the estimated burden and enhance the quality of the collection, to John Wade, Financial Analyst, Office of Financial Assistance, Small Business Administration, 409 3rd Street, 8th Floor, Washington, DC 20416.

FOR FURTHER INFORMATION CONTACT: John Wade, Financial Analyst, 202-205-3647, johnwade@sba.gov; Curtis B. Rich, Management Analyst, 202-205-7030, curtis.rich@sba.gov.

Title: “Form of Detached Assignment for U.S. Small Business Administration Loan Pool or Guarantee Interest Certificate”.

Abstract: Pursuant 5(h)(i)(c)to The Small Business Market Improvement Act the seller of a loan or pool certificate must disclose the information on this form to the purchaser, constant annual prepayment rate based upon the seller's analysis of the prepayment histories of SBA guaranteed loans with similar maturities and additional disclosure information on the terms, conditions and yield of the securities.

Form Number: 1088.

Annual Responses: 856.

Annual Burden: 733.

Curtis Rich,
Management Analyst.

[FR Doc. 2013-30060 Filed 12-17-13; 8:45 am]

BILLING CODE P